DEPARTMENT OF ENERGY

Federal Energy Regulatory Commission

[Docket No. IC13-22-000]

Commission Information Collection Activities (Ferc-733); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-733, Demand Response/Time-Based Rate Programs and Advanced Metering, to the Office of Management and Budget (OMB) for review of the information collection requirements. Any interested person may file comments directly with OMB and should address a copy of those comments to the Commission as explained below. The Commission issued a Notice in the Federal Register (78 FR 63172, 10/23/2013) requesting public comments. FERC received no comments on the FERC-733 and is making this notation in its submittal to OMB.

DATES: Comments on the collection of information are due by February 3, 2014.

ADDRESSES: Comments filed with OMB, identified by the collection number FERC-733, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-22-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-733, Demand Response/Time-Based Rate Programs and Advanced Metering.

OMB Control No.: To be determined.

Type of Request: Approval of a new survey of demand response and time-based rate programs and tariffs, and advanced metering that replaces the FERC-731 survey.

Abstract: Section 1252(e)(3) of the Energy Policy Act of 2005,¹ requires the Federal Energy Regulatory Commission to prepare and publish an annual report, by appropriate region, that assesses demand response resources, including those available from all consumer classes. Specifically, EPAct 2005 Section 1252(e)(3) requires that the Commission identify and review:

¹ Public Law 109-58, § 1252(e)(3), 119 Stat. 594, 966 (2005) (EPAct 2005).

(A) saturation and penetration rate of advanced meters and communications technologies, devices and systems;

(B) existing demand response programs and time-based rate programs;

(C) the annual resource contribution of demand resources;

(D) the potential for demand response as a quantifiable, reliable resource for regional planning purposes;

(E) steps taken to ensure that, in regional transmission planning and operations, demand resources are provided equitable treatment as a quantifiable, reliable resource relative to the resource obligations of any load-serving entity, transmission provider, or transmitting party; and

(F) regulatory barriers to improved customer participation in demand response, peak reduction and critical period pricing programs.

In 2006 and 2008, the Commission designed and used Office of Management and Budget (OMB) approved collections FERC-727, Demand Response and Time Based Rate Programs Survey (OMB Control No. 1902-0214), and FERC-728, Advanced Metering Survey (OMB Control No. 1902-0213), to collect and convey to Congress the requested demand response and advanced metering information. In 2010 and 2012, the Commission designed and used OMB approved collection FERC-731, Demand Response/Time-Based Rate Programs and Advanced Metering (OMB Control No. 1902-0251).

For 2014 and 2016 the Commission proposes to continue to utilize a voluntary survey (FERC-733) that incorporates changes to the previously approved FERC-731 to improve data quality and reduce respondent burden. The Commission proposes to (1) align its collection of Advanced Metering Infrastructure (AMI) installations with that of the Energy Information Administration (EIA), (2) consolidate several questions, (3) eliminate some of the data collected on the FERC-731, (4) include three additional categories regarding customer's methods of accessing data, and (5) request additional details concerning retail demand response programs that participate in wholesale programs.²

² The additional details of the retail demand response programs that participate in wholesale demand response programs is necessary to identify the potential peak reductions that are solely wholesale in nature and not associated with specific demand response efforts at the retail program level.

The Commission proposes to revise the structure of its question on advanced meters to comport with recent changes approved by OMB for the EIA in Form EIA-861, Schedule 6, Part D, “Advanced Metering and Customer Communication.” The Commission also proposes to eliminate certain data elements requested by the 2012 FERC-731 including: The respondents' number of customers by customer sector in Question 3, and the request for the respondents' long-range (4 to 6 years) plans for demand response programs in Question 5.

The Commission believes that the above changes should result in a more accurate and streamlined data collection that will reduce respondent burden.

The Commission investigated alternatives, including using data from the North American Electric Reliability Corporation (NERC) and EIA, to fielding and collecting data using a FERC designed survey. However, as explained below, the data is not currently collected or cannot be obtained by the Commission in time to complete the 2014 report to Congress.

NERC, as the Electric Reliability Organization for the United States ³ as certified by the Commission, has begun to collect demand response data on dispatchable and non-dispatchable resources that it needs to conduct its reliability work. Reporting demand response information in the Demand Response Availability Data System (DADS) is mandatory for all entities who are part of NERC's functional model. The Demand Response Data Task Force at NERC developed DADS to collect demand response program information. DADS currently collects information on dispatchable and controllable demand response resources. DADS does not currently collect and report information on several key demand response program types including economic, and time-based rate programs. Because DADS does not currently collect and report data which is specifically required by EPAct 2005, the system cannot be relied upon for FERC's reporting purposes. EPAct 2005 specifically requires FERC to identify and review time-based rate programs.

³ North American Electric Reliability Corp., 116 FERC ¶ 61,062, order on reh'g & compliance, 117 FERC ¶ 61,126 (2006), appeal docketed sub nom. Alcoa, Inc. v. FERC, No. 06-1426 (D.C. Cir. Dec. 29, 2006).

NERC plans to require its registered entities to report information on these other demand response program types in the future, but it is unclear at this time when NERC may begin to collect these additional data or whether the new data will be available or suitable for FERC staff to use to prepare their reports to Congress.

The EIA collects aggregated information on energy efficiency and load management as well as advanced metering data in its EIA-861, “Annual Electric Power Industry Report.” The data collected in this survey does not identify specific demand response programs or time-based rate programs, but it does support the Commission's advanced metering data needs. Unfortunately, the finalized advanced metering data for 2013 will not be available until the fourth quarter of 2014 under EIA's proposed schedule. Therefore, the EIA data will not be available to the Commission in time to report 2013 findings in calendar year 2014.

Because these alternatives will not provide data or will not provide data in a timely manner for the 2014 report, the Commission proposes to conduct a survey (attached in the docket) with a response deadline of May 1, 2014. This survey has been designed to be consistent with the NERC's data collection such that, in future years, the Commission may be able to use the NERC data when it becomes available, phase-out the FERC demand response survey and still comply with EPAct 2005 Section 1252(e)(3).

FERC staff has designed a survey that will impose minimal burden on respondents by providing respondents with an easy-to-complete, fillable form that will include such user friendly features as pre-populated fields and drop-down menus, make use of the data that is becoming available from reliable sources, and provide it with the information necessary to draft and file the report that is required by Congress. The survey can be electronically filed. A paper version of the survey will be available for those who are unable to file electronically.

Access to the Proposed Materials: The survey form, instructions, and glossary are attached to this docket, but they are not being published in the Federal Register.⁴ Interested parties can see the materials electronically as part of this notice in FERC's eLibrary (http://www.ferc.gov/docs-filing/elibrary.asp) by searching Docket No. IC13-22-000.

⁴ The attached form is for illustrative purposes only and does not include all the interactive features of the actual form.

Interested parties may also request paper or electronic copies of any of the materials by contacting FERC's Public Reference Room by email at public.referenceroom@ferc.gov or by telephone at (202) 502-8371.

Type of Respondents: The Commission is proposing to collect the demand response and advanced metering information via a voluntary survey from the nation's entities that serve wholesale and retail customers. The information will be used to draft and file the report that is required by Congress. Industry cooperation is important for us to obtain as accurate and up-to-date information as possible to respond to Congress, as well as to provide information to states and other market participants. We, therefore, strongly encourage all potential survey respondents to complete the survey.

Estimate of Annual Burden: ⁵ The Commission estimates the total Public Reporting Burden for this information collection as:

⁵ The Commission defines burden as the total time, effort, or financial resources expended by persons to generate, maintain, retain, or disclose or provide information to or for a Federal agency. For further explanation of what is included in the information collection burden, reference 5 Code of Federal Regulations 1320.3.

FERC-733—Demand Response/Time-Based Rate Programs and Advanced Metering
| Number of respondents (A) | Number of responses per respondent (B) | Total number of responses (A) × (B) = (C) | Average burden hours per response (D) | Estimated total burden ⁶ (C) × (D)
Entities that serve wholesale and retail customers | 3,400 | 1 | 3,400 | 3.5 | 11,900

⁶ This collection occurs every two years and OMB approval is typically for three years. As such, it is likely that there will be two surveys completed during the time this form is approved. When we submit this collection to OMB for approval (after the comment period) we will likely calculate the total burden for three years (two surveys) and average the total burden over those three years.

The total estimated cost burden to respondents for the 2014 survey is $669,613 (11,900 hours/year × $56.27/hour ⁷ = $669,613. The estimated cost per respondent for the survey is $196.95 (3.5 hours/survey × $56.27/hour = $196.95.

⁷ This figure is based on the average salary plus benefits for a management analyst (NAICS Occupation Code 13-1111). We obtained wage and benefit information from the Bureau of Labor Statistics (http://bls.gov/oes/current/naics2_22.htm and http://www.bls.gov/news.release/ecec.nr0.htm).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 24, 2013.
Kimberly D. Bose,
Secretary.

[FR Doc. 2013-31340 Filed 12-31-13; 8:45 am]

BILLING CODE 6717-01-P